DEPARTMENT OF HOMELAND SECURITY

Coast Guard

33 CFR Part 110

[Docket Number USCG-2020-0154]

Anchorage Regulations; Multiple Anchorages on the Mississippi River From MM 12 AHP to MM 85 AHP

AGENCY: Coast Guard, DHS.

ACTION: Notice of inquiry; request for comments.

SUMMARY: We are requesting your comments regarding potential changes to multiple anchorages along the Mississippi River from mile marker (MM) 12 ahead of passes (AHP), to MM 85 AHP. Pilot associations have requested the Coast Guard to consider these potential changes because they believe there are currently not enough anchorage grounds along the river system to facilitate the safe anchorage of shallow and deep draft vessels. In this document we identify anchorage grounds locations that we have been requested to establish, expand or revise. We seek your comments on whether we should consider modifying our anchorage grounds regulations covering MM 12 AHP to MM 85 AHP, and if so, how.

DATES: Your comments and related material must reach the Coast Guard on or before November 30, 2020.

ADDRESSES: You may submit comments identified by docket number USCG-2020-0154 using the Federal portal at https://www.regulations.gov. See the “Public Participation and Request for Comments” portion of the SUPPLEMENTARY INFORMATION section for further instructions on submitting comments.

FOR FURTHER INFORMATION CONTACT: If you have questions about this potential rulemaking, call or email Lieutenant Commander Corinne Plummer, Sector New Orleans, U.S. Coast Guard; telephone 504-365-2375, email Corinne.M.Plummer@uscg.mil.

SUPPLEMENTARY INFORMATION:

I. Table of Abbreviations

AHP Above Head of Passes

CFR Code of Federal Regulations

COTP Captain of the Port New Orleans

CRPPA Crescent River Port Pilots' Association

DHS Department of Homeland Security

FR Federal Register

LDB Left Descending Bank

LMR Lower Mississippi River

MM Mile Marker

MNSA Maritime Navigation Safety Association

NOI Notice of Inquiry

NPRM Notice of proposed rulemaking

RDB Right Descending Bank

§ Section

U.S.C. United States Code

II. Background and Purpose

The Coast Guard is issuing this Notice of Inquiry (NOI) to solicit comments from industry, the maritime community, local stakeholders and other interested persons regarding potential multiple changes to anchorages along the Lower Mississippi River (LMR). The Coast Guard was approached by industry, who identified multiple locations along the LMR where an anchorage could potentially be established, expanded or revised in order to accommodate the increasing vessel traffic along the Lower Mississippi River. The authority for the Coast Guard to establish or amend anchorage ground regulations is found in 33 U.S.C. 471 and Department of Homeland Security Delegation No. 0170.1. The requesting document is available in the docket.

There are currently 12 established anchorage grounds along the Lower Mississippi River between MM 12 AHP and MM 85 AHP that total of 33.54 statute miles of approved anchorage area, longitudinally along the Lower Mississippi River. The potential changes would add an additional 3.75 statute miles of longitudinal anchorage area. Those additions are broken into the following: 2.65 miles of space would be added to current anchorage grounds and 1.1 miles would be created in two new anchorage grounds locations.

At this time, the potential changes to these anchorage grounds would not affect the width of the previously established anchorage grounds, only the overall length of the anchorages. Current anchorage widths within this area of the Mississippi River from MM12-MM85 range from 400′ to 800′. The anchorage grounds widths are listed in the table below for reference purposes.

The current anchorages regulations for this area of the LMR can be found in 33 CFR 110.195. The recommended changes are listed in ascending mile-marker order as follows:

Potential Changes to Existing Anchorage Grounds
Anchorage name | Change | Existing location | Recommended location | Existing width | 33 CFR 110.195
Boothville | Expand 0.95 Miles | MM 13.0-18.5 | MM 12.05-18.5 | 750′ | (a)(4)
Point Michel | Expand 0.8 Miles | MM 40.8-42.2 | MM 40.0-42.2 | 500′ | (a)(35)
Magnolia | Expand 0.1 Miles | MM 45.5-47.6 | MM 45.4-47.6 | 700′ | (a)(7)
Davant | Expand 0.3 Miles | MM 52.8-53.9 | MM 52.5-53.9 | 800′ | (a)(9)
Alliance | Expand 0.2 Miles | MM 63.8-65.8 | MM 63.6-65.8 | 400′ | (a)(10)
Wills Point | Shift up river 0.02 Miles and Expand 0.15 Miles | MM 66.5-67.6 | MM 66.7-67.9 | 600′ | (a)(11)
Cedar Grove | Add language to protect revetments, cables and pipelines | MM 69.56-70.9 | N/A | 500′ | (a)(12)
Belle Chasse | Expand 0.05 Miles | MM 73.1-75.2 | MM 73.05-75.2 | 575′ | (a)(13)
Lower 12 Mile Point | Add language to protect revetments, cables and pipelines | MM 78.6-80.8 | N/A | 500′ | (a)(14)
Lower 9 Mile Point | Expand 0.1 Miles | MM 82.7-85.0 | MM 82.6-85.0 | 500′ | (a)(15)

Potential New Anchorage Grounds
Anchorage name | Change | Location
Phoenix | Establish 0.6 Miles Length x 400′ Width on the Left Descending Bank | MM 57.82-58.42
Bertrandville | Establish 0.5 Miles Length x 400′ Width on the Left Descending Bank | MM 68.5-69.0

III. Information Requested

We seek your comments on whether we should consider modifying the anchorage grounds regulations covering MM 12 AHP to MM 85 AHP based on this report, and if so, how. In particular, the Coast Guard requests your input to determine if there remains a need for additional anchorage grounds in this area, and if so, to what extent and for what purpose; if the establishment of two additional anchorage grounds and the recommended changes to expand currently regulated anchorage grounds would meet current and anticipated industry needs; or if other options should be considered.

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice of inquiry and provide a reason for each suggestion or recommendation.

We accept anonymous comments. All comments received will be posted without change to https://www.regulations.gov and will include any personal information you have provided. For more about privacy and submissions in response to this document, see DHS's rulemaking System of Records notice (85 FR 14226, March 11, 2020).

Documents mentioned in this notice of inquiry as being available in the docket, and all public comments, will be in our online docket at https://www.regulations.gov and can be viewed by following that website's instructions.

This document is issued under authority of 5 U.S.C. 552(a).

Dated: September 18, 2020.
J.P. Nadeau,
Rear Admiral, U.S. Coast Guard, Commander, Coast Guard District Eight.

[FR Doc. 2020-21056 Filed 9-29-20; 8:45 am]

BILLING CODE 9110-04-P